DEPARTMENT OF HEALTH AND HUMAN SERVICES

Food and Drug Administration

[Docket No. FDA-2017-D-2991]

Pediatric Rare Diseases—A Collaborative Approach for Drug Development Using Gaucher Disease as a Model; Draft Guidance for Industry; Availability; Correction

AGENCY: Food and Drug Administration, HHS.

ACTION: Notice; correction.

SUMMARY: The Food and Drug Administration is correcting a notice entitled “Pediatric Rare Diseases—A Collaborative Approach for Drug Development Using Gaucher Disease as a Model; Draft Guidance for Industry; Availability” that appeared in the Federal Register of December 7, 2017. The document announced the availability of a draft guidance focusing on drug development for pediatric patients with Gaucher disease. The document was published with the incorrect docket number. This document corrects that error.

FOR FURTHER INFORMATION CONTACT: Lisa Granger, Office of Policy, Food and Drug Administration, 10903 New Hampshire Ave., Bldg. 32, Rm. 3330, Silver Spring, MD 20993-0002, 301-796-9115.

SUPPLEMENTARY INFORMATION: In the Federal Register of Thursday, December 7, 2017 (82 FR 57759), in FR Doc. 2017-26357, the following correction is made:

On page 57759, in the first column, in the document heading and in the third column under Instructions, the docket number “FDA-2017-N-6476” is corrected to read “FDA-2017-D-2991”.

Dated: August 26, 2019.
Lowell J. Schiller,
Principal Associate Commissioner for Policy.

[FR Doc. 2019-18730 Filed 8-29-19; 8:45 am]

BILLING CODE 4164-01-P